DEPARTMENT OF THE TREASURY

Office of Thrift Supervision

[Docket ID: OTS-2009-0008]

Open Meeting of the OTS Minority Depository Institutions Advisory Committee

AGENCY: Department of the Treasury, Office of Thrift Supervision.

ACTION: Notice of meeting.

SUMMARY: The OTS Minority Depository Institutions Advisory Committee (MDIAC) will convene a meeting on Thursday, May 28, 2009, via a teleconference beginning at 2 p.m. Eastern Time. The telephone meeting will be open to the public. Members of the public interested in listening to the meeting and members of the public who require auxiliary aide should e-mail the OTS at Commaffairs@ots.treas.gov to obtain the information on how to participate on the call.

DATES: The telephone meeting will be held on Thursday, May 28, 2009, at 2 p.m. Eastern Time.

Submission of Written Comments: The public is invited to submit written statements to the OTS Minority Depository Institutions Advisory Committee by any one of the following methods:

• E-mail address: Commaffairs@ots.treas.gov; or

• Mail: To Cassandra McConnell, Designated Federal Official, Office of Thrift Supervision, 1700 G Street, NW., Washington, DC 20552 in triplicate.

The agency must receive statements no later than Thursday, May 21, 2009.

FOR FURTHER INFORMATION CONTACT: Cassandra McConnell, Designated Federal Official, (202) 906-5750, Office of Thrift Supervision, 1700 G Street, NW., Washington, DC 20552.

SUPPLEMENTARY INFORMATION: By this notice, the Office of Thrift Supervision is announcing that the OTS Minority Depository Institutions Advisory Committee will convene a meeting on Thursday, May 28, 2009, via a teleconference beginning at 2 p.m. Eastern Time. The meeting will be open to the public. Anyone planning to participate in the meeting should contact the Office of Community Affairs at Commaffairs@ots.treas.gov by 5 p.m. Eastern Time on Thursday, May 21, 2009. The purpose of this telephone meeting is to discuss the committee objectives to advise OTS on ways to meet the goals established by section 308 of the Financial Institutions Reform, Recovery, and Enforcement Act of 1989 (FIRREA), Public Law 101-73, Title III, 103 Stat. 353, 12 U.S.C.A. section 1463 note. The goals of section 308 are to preserve the present number of minority institutions, preserve the minority character of minority-owned institutions in cases involving mergers or acquisitions, provide technical assistance, and encourage the creation of new minority institutions.

Dated: May 8, 2009.
By the Office of Thrift Supervision.
Cassandra E. McConnell,
Designated Federal Official, OTS Minority Depository Institutions Advisory Committee.

[FR Doc. E9-11197 Filed 5-12-09; 8:45 am]

BILLING CODE 6720-01-P